DEPARTMENT OF COMMERCE

National Oceanic and Atmospheric Administration

[I.D. 040507E]

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Rock Shrimp Advisory Panel and Golden Crab Advisory Panel, in Charleston, SC.

DATES: The meetings will take place May 1-3, 2007. See SUPPLEMENTARY INFORMATION for specific dates and times.

ADDRESSES: The meetings will be held at the Town and Country Inn, 2008 Savannah Highway, Charleston, SC 29407; telephone: (800) 334-6660 or (843) 571-1000; fax: (843) 766-9444.

Council address: South Atlantic Fishery Management Council, 4055 Faber Place Drive, Suite 201, North Charleston, SC 29405.

FOR FURTHER INFORMATION CONTACT: Kim Iverson, Public Information Officer; telephone: (843) 571-4366 or toll free (866) SAFMC-10; fax: (843) 769-4520; email: kim.iverson@safmc.net.

SUPPLEMENTARY INFORMATION: Members of the Rock Shrimp Advisory Panel will meet from 1:30 p.m. - 5 p.m. on May 1, 2007, and from 8:30 a.m. - 12 noon on May 2, 2007.

The Rock Shrimp Advisory Panel will meet jointly with the Golden Crab Advisory Panel from 1:30 p.m. - 5 p.m. on May 2, 2007. The Golden Crab Advisory Panel will meet from 8:30 a.m. - 5 p.m. on May 3, 2007.

Both the Rock Shrimp and Golden Crab Advisory Panels (APs) will receive the following presentations: (1) an overview of the Council's Fishery Ecosystem Plan (FEP), (2) deepwater coral habitats in the South Atlantic Region, and (3) Vessel Monitoring Systems and electronic logbooks currently in use by the Gulf of Mexico shrimp fishery. Following the presentations, advisory panel members will discuss and provide recommendations on the development of allowable gear zones and designations of deepwater coral areas as Habitat Areas of Particular Concern (HAPCs) as alternatives to be included in the Council's Comprehensive Amendment to the FEP. The Rock Shrimp AP and Golden Crab AP will meet jointly to discuss common fishing areas.

In addition, the Rock Shrimp AP will provide recommendations regarding the current “Use it or Lose it” provision for the rock shrimp fishery. The provision, created as part of a limited access program for the rock shrimp fishery through Amendment 5 to the Shrimp Fishery management Plan (FMP) for the South Atlantic Region, states that if a limited access rock shrimp permit is “not active” during a 48 month period (4 calendar years) it will not be renewed and criteria will be applied to put the permit back in the limited access rock shrimp fishery. A rock shrimp limited access permit is defined as inactive when the vessel it is attached to has less than 15,000 pounds of documented rock shrimp harvest from the exclusive economic zone (EEZ) within the South Atlantic Council's area of jurisdiction in a calendar year. The Rock Shrimp AP will also provide a description of the rock shrimp fishery and the royal red shrimp fishery for inclusion in the FEP. The Golden Crab AP will provide a description of the golden crab fishery for the FEP as well.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for` auxiliary aids should be directed to the council office (see ADDRESSES) 3 days prior to the meetings.Note: The times and sequence specified in this agenda are subject to change.

Dated: April 5, 2007.
Tracey L. Thompson,
Acting Director, Office of Sustainable Fisheries, National Marine Fisheries Service.

[FR Doc. E7-6716 Filed 4-9-07; 8:45 am]

BILLING CODE 3510-22-S